DEPARTMENT OF HOMELAND SECURITY

U.S. Customs and Border Protection

[OMB Control Number 1651-0131]

Agency Information Collection Activities; Extension; e-Allegations Submission

AGENCY: U.S. Customs and Border Protection (CBP), Department of Homeland Security.

ACTION: 60-Day notice and request for comments.

SUMMARY: The Department of Homeland Security, U.S. Customs and Border Protection (CBP) will be submitting the following information collection request to the Office of Management and Budget (OMB) for review and approval in accordance with the Paperwork Reduction Act of 1995 (PRA). The information collection is published in the Federal Register to obtain comments from the public and affected agencies.

DATES: Comments are encouraged and must be submitted (no later than November 3, 2025) to be assured of consideration.

ADDRESSES: Written comments and/or suggestions regarding the item(s) contained in this notice must include the OMB Control Number 1651-0131 in the subject line and the agency name. Please submit written comments and/or suggestions in English. Please use the following method to submit comments:

Email. Submit comments to: CBP_PRA@cbp.dhs.gov.

FOR FURTHER INFORMATION CONTACT: Requests for additional PRA information should be directed to Seth Renkema, Chief, Economic Impact Analysis Branch, U.S. Customs and Border Protection, Office of Trade, Regulations and Rulings, 90 K Street NE, 10th Floor, Washington, DC 20229-1177, Telephone number 202-325-0056 or via email CBP_PRA@cbp.dhs.gov. Please note that the contact information provided here is solely for questions regarding this notice. Individuals seeking information about other CBP programs should contact the CBP National Customer Service Center at 877-227-5511, (TTY) 1-800-877-8339, or CBP website at https://www.cbp.gov/.

SUPPLEMENTARY INFORMATION: CBP invites the general public and other Federal agencies to comment on the proposed and/or continuing information collections pursuant to the Paperwork Reduction Act of 1995 (44 U.S.C. 3501 et seq.). This process is conducted in accordance with 5 CFR 1320.8. Written comments and suggestions from the public and affected agencies should address one or more of the following four points: (1) whether the proposed collection of information is necessary for the proper performance of the functions of the agency, including whether the information will have practical utility; (2) the accuracy of the agency's estimate of the burden of the proposed collection of information, including the validity of the methodology and assumptions used; (3) suggestions to enhance the quality, utility, and clarity of the information to be collected; and (4) suggestions to minimize the burden of the collection of information on those who are to respond, including through the use of appropriate automated, electronic, mechanical, or other technological collection techniques or other forms of information technology, e.g., permitting electronic submission of responses. The comments that are submitted will be summarized and included in the request for approval. All comments will become a matter of public record.

Overview of This Information Collection

Title: e-Allegations Submission.

OMB Number: 1651-0131.

Form Number: N/A.

Current Actions: Extension without change.

Type of Review: Extension without change.

Affected Public: Businesses.

Abstract: The information collected through the EAPA allegation submissions portal, the Case Management System (CMS) (also known as the EAPA portal), includes the following: filer category, name of individual filing the allegation and their contact information, the name and address of the company they represent, and their interested party designation; information related to the alleged evasion scheme, including type of products, type of scheme and antidumping (AD)/countervailing duty (CVD) Order information; the name and address of the company engaging in the alleged evasion scheme; and various certifications regarding the truthfulness of the allegation and how notifications about how the information will be used during the investigation. Additionally, CBP requests information to include alleger and violating importer email and phone number, optional representing attorney contact information, and the type of violation and the corresponding details. Interested parties will upload documents with the appropriate confidentiality status (e.g., business confidential (BC) version, public version, or public document).

New users will need to create an account with their name and email address before accessing the EAPA portal, filing allegations, uploading documents for cases to which they are assigned to participate, and communicating with EAPA staff.

Previously Approved Revisions: Collection of information for an EAPA investigation is authorized by the Tariff Act of 1930, as amended (19 U.S.C. 1517), Section 421 of the TFTEA (Pub. L. 114-125, Feb. 24, 2016), and 19 CFR 165. The EAPA portal is accessed through the e-Allegations website at: https://eallegations.cbp.gov/Home/Index2.

The EAPA Allegation form has been modified from the original version to provide clarifying information which validates that the allegation qualifies as an EAPA allegation. Additions to the form include alleger name and phone number and the alleged violating importer's email and phone number, the contact information for the representing attorney contact information which was an optional data element, and a requirement to select the type of violation and provide the corresponding details. The updated form also requires users to upload at least one document to the allegation submission and select a document category in addition to the existing classification for confidentiality status. Users will have the option to select additional categories including document date and if a document has been served after upload. Harmonized Tariff Schedule product categories and questions that would make an allegation non-qualifying for an EAPA allegation have been removed and replaced by system validations or additional instructions.

In July 2023, the U.S. Court of Appeals for the Federal Circuit mandated that CBP implement a mechanism called an Administrative Protective Order (APO), providing authorized representatives of parties to the investigation access business confidential (BC) information on the administrative record in EAPA investigations, administrative reviews, and court remands subject to the APO.

To comply with court's mandate, CBP collects additional information related to the new APO process that grants authorized persons access to BC information in an EAPA investigation, administrative review, or court remand.

Specifically, U.S.-licensed attorneys, or other individuals and personnel employed and/or retained by and working under the direction and supervision of a U.S.-licensed attorney, need to provide the following additional information, not previously collected:

(1) a written request to view BC information;

(2) the names of all individuals, U.S.-licensed attorneys, and personnel and other individuals working under the direct control of U.S-licensed attorneys, who will have access to the BC information;

(3) the bar license number(s) and relevant United States jurisdiction(s) for the responsible U.S.-licensed attorneys who access or who oversee personnel accessing the BC information;

(4) certifications that the individuals viewing the BC information do not, and will not, have any decision-making authority or official business relationship with the party they are representing in the EAPA proceeding or competitors of the party submitting BC information;

(5) certifications agreeing to protect and not disclose any BC information to unauthorized persons;

(6) certifications to only use the BC information for the specific EAPA proceeding for which access is approved;

(7) certifications that the statements they are providing are true and accurate; and

(8) certifications that the authorized representatives have destroyed all BC information received under the APO within 45 business days after the final disposition of the EAPA proceeding, including any related judicial proceeding.

CBP published a Final Rule March 18th, 2024, establishing the APO implementation, formally announcing the EAPA Portal, and, as of the effective date of the Final Rule, allegers, including Federal Agencies, can withdraw an allegation request for an investigation via the EAPA Portal.

Type of Information Collection: e-Allegations.

Estimated Number of Respondents: 1,088.

Estimated Number of Annual Responses per Respondent: 1.

Estimated Number of Total Annual Responses: 1,088.

Estimated Time per Response: 15 minutes.

Estimated Total Annual Burden Hours: 272.

Type of Information Collection: EAPA Allegations.

Estimated Number of Respondents: 149.

Estimated Number of Annual Responses per Respondent: 1.

Estimated Number of Total Annual Responses: 149.

Estimated Time per Response: 12 minutes.

Estimated Total Annual Burden Hours: 30.

Type of Information Collection: EAPA Portal Account Creation.

Estimated Number of Respondents: 250.

Estimated Number of Annual Responses per Respondent: 1.

Estimated Number of Total Annual Responses: 250.

Estimated Time per Response: 3 minutes.

Estimated Total Annual Burden Hours: 13.

Type of Information Collection: EAPA APO Information.

Estimated Number of Respondents: 100.

Estimated Number of Annual Responses per Respondent: 1.

Estimated Number of Total Annual Responses: 100.

Estimated Time per Response: 10 minutes.

Estimated Total Annual Burden Hours: 17.

Seth D. Renkema,
Branch Chief, Economic Impact Analysis Branch, U.S. Customs and Border Protection.

[FR Doc. 2025-16790 Filed 8-29-25; 8:45 am]

BILLING CODE 9111-14-P